DEPARTMENT OF THE TREASURY

Office of the Comptroller of the Currency

Agency Information Collection Activities: Information Collection Renewal; Submission for OMB Review; Loans in Areas Having Special Flood Hazards

AGENCY: Office of the Comptroller of the Currency (OCC), Treasury.

ACTION: Notice and request for comment.

SUMMARY: The OCC, as part of its continuing effort to reduce paperwork and respondent burden, invites comment on a continuing information collection, as required by the Paperwork Reduction Act of 1995 (PRA). In accordance with the requirements of the PRA, the OCC may not conduct or sponsor, and the respondent is not required to respond to, an information collection unless it displays a currently valid Office of Management and Budget (OMB) control number. The OCC is soliciting comment concerning the renewal of its information collection titled, “Loans in Areas Having Special Flood Hazards.” The OCC also is giving notice that it has sent the collection to OMB for review.

DATES: Comments must be received by August 28, 2025.

ADDRESSES: Commenters are encouraged to submit comments by email, if possible. You may submit comments by any of the following methods:

• Email: prainfo@occ.treas.gov.

• Mail: Chief Counsel's Office, Attention: Comment Processing, Office of the Comptroller of the Currency, Attention: 1557-0326, 400 7th Street SW, Suite 3E-218, Washington, DC 20219.

• Hand Delivery/Courier: 400 7th Street SW, Suite 3E-218, Washington, DC 20219.

• Fax: (571) 293-4835.

Instructions: You must include “OCC” as the agency name and “1557-0326” in your comment. In general, the OCC will publish comments on www.reginfo.gov without change, including any business or personal information provided, such as name and address information, email addresses, or phone numbers. Comments received, including attachments and other supporting materials, are part of the public record and subject to public disclosure. Do not include any information in your comment or supporting materials that you consider confidential or inappropriate for public disclosure.

Written comments and recommendations for the proposed information collection should also be sent within 30 days of publication of this notice to www.reginfo.gov/public/do/PRAMain. You can find this information collection by selecting “Currently under 30-day Review—Open for Public Comments” or by using the search function.

You may review comments and other related materials that pertain to this information collection following the close of the 30-day comment period for this notice by the method set forth in the next bullet.

• Viewing Comments Electronically: Go to www.reginfo.gov. Hover over the “Information Collection Review” tab and click on “Information Collection Review” from the drop-down menu. From the “Currently under Review” drop-down menu, select “Department of Treasury” and then click “submit.” This information collection can be located by searching OMB control number “1557-0326” or “Loans in Areas Having Special Flood Hazards.” Upon finding the appropriate information collection, click on the related “ICR Reference Number.” On the next screen, select “View Supporting Statement and Other Documents” and then click on the link to any comment listed at the bottom of the screen.

• For assistance in navigating www.reginfo.gov, please contact the Regulatory Information Service Center at (202) 482-7340.

FOR FURTHER INFORMATION CONTACT: Shaquita Merritt, Clearance Officer, (202) 649-5490, Chief Counsel's Office, Office of the Comptroller of the Currency, 400 7th Street SW, Washington, DC 20219. If you are deaf, hard of hearing, or have a speech disability, please dial 7-1-1 to access telecommunications relay services.

SUPPLEMENTARY INFORMATION: Under the PRA (44 U.S.C. 3501 et seq.), Federal agencies must obtain approval from the OMB for each collection of information that they conduct or sponsor. “Collection of information” is defined in 44 U.S.C. 3502(3) and 5 CFR 1320.3(c) to include agency requests or requirements that members of the public submit reports, keep records, or provide information to a third party. The OCC asks the OMB to extend its approval of the collection in this notice.

Title: Loans in Areas Having Special Flood Hazards.

OMB Control No.: 1557-0326.

Type of Review: Regular.

Affected Public: Businesses or other for-profit.

Description: This information collection is required to evidence compliance with the requirements of the Federal flood insurance statutes with respect to lenders and servicers and set forth in OCC regulations at 12 CFR part 22. These provisions are required by the National Flood Insurance Act of 1968 and the Flood Disaster Protection Act of 1973, as amended.¹ The information collection requirements in part 22 are as follows:

¹ 42 U.S.C. 4001-4129.

• 12 CFR 22.3—Requirement to Purchase Flood Insurance Where Available—Under § 22.3(c)(3), national banks and Federal savings associations have the discretion to accept a flood insurance policy issued by a private insurer that is not issued under the National Flood Insurance Program (NFIP) and does not meet the definition of private flood insurance if, among other things, the policy provides sufficient protection of the designated loan, consistent with general safety and soundness principles, and the bank or savings association has documented its conclusion regarding sufficiency of the protection in writing. Under § 22.3(c)(4)(v), national banks and Federal savings associations may accept a private policy issued by a mutual aid society if, among other things, the coverage provides sufficient protection of the designated loan, consistent with general safety and soundness principles, and the bank or savings association has documented its conclusion regarding sufficiency of the protection in writing.

• 12 CFR 22.5—Escrow Requirements—With certain exceptions with respect to types of loans and size of institution, national banks, Federal savings associations, and their servicers must escrow flood insurance premiums and fees for all loans secured by properties located in a Special Flood Hazard Area made, increased, extended, or renewed on or after January 1, 2016. Pursuant to § 22.5(b), when escrow is required, the national bank or Federal savings associations must mail or deliver to the borrower a written notice informing the borrower that the bank or savings association is required to escrow all premiums and fees for required flood insurance. Pursuant to § 22.5(d)(2), if a national bank or Federal savings association no longer qualifies for an exception to the escrow requirement, the bank or savings association, in certain cases, must provide the borrower with a written notice informing the borrower of the option to escrow all premiums and fees for required flood insurance.

• 12 CFR 22.6(a)—Required Use of Standard Flood Hazard Determination Form—A national bank or Federal savings association must use the Standard Flood Hazard Determination Form developed by FEMA.

• 12 CFR 22.6(b)—Retention of Standard Flood Hazard Determination Form—A national bank or Federal savings association must retain a copy of the completed Standard Flood Hazard Determination Form for the period the bank or savings association owns the loan.

• 12 CFR 22.7—Notice of Forced Placement of Flood Insurance—If a national bank or Federal savings association, or its loan servicer, determines during the period of time the bank or savings association owns the loan that the property securing the loan is not covered by adequate flood insurance, the bank or savings association, or its loan servicer, must notify the borrower that the borrower should obtain adequate flood insurance coverage at the borrower's expense in an amount at least equal to the minimum amount required under the regulation for the remaining term of the loan. If the borrower fails to purchase insurance, the bank or savings association, or its servicer, must purchase insurance on the borrower's behalf and may charge the borrower for the premiums and fees. The insurance provider must be notified to terminate any insurance purchased by an institution or servicer within 30 days of receipt of confirmation of a borrower's existing flood insurance coverage.

• 12 CFR 22.9(a) and (b)—Notice to Borrower and Servicer—A national bank or Federal savings association making, increasing, extending, or renewing a loan secured by property located in a special flood hazard area must provide a written notice to the borrower and loan servicer (borrower notice). The borrower notice must include a warning that the property securing the loan is located in a special flood hazard area; a description of the flood insurance purchase requirements; a statement indicating that flood insurance is available under the National Flood Insurance Program, where applicable; a statement that flood insurance providing the same level of coverage may be available from private insurance companies; a statement that borrowers are encouraged to compare NFIP and private flood insurance policies; and a statement whether Federal disaster relief assistance may be available in the event of a declared Federal flood disaster.

• 12 CFR 22.9(d) and (e)—Record of Borrower and Servicer Receipt of Notice and Alternate Method of Notice—A national bank or Federal savings association must retain a record of the receipt of the borrower notices by the borrower and the loan servicer for the period of time the bank or savings association owns the loan. In lieu of providing the borrower notice, a national bank or savings association may obtain a satisfactory written assurance from a seller or lessor that, within a reasonable time before completion of the sale or lease transaction, the seller or lessor has provided such notice to the purchaser or lessee. The bank or savings association must retain a record of the written assurance from the seller or lessor for the period it owns the loan.

• 12 CFR 22.10—Notices to FEMA—A national bank or savings association making, increasing, extending, renewing, selling, or transferring a loan secured by property located in a special flood hazard area must notify the Administrator of FEMA (or the Administrator's designee) of the identity of the loan servicer (notice of servicer), and must notify the Administrator of FEMA (or the Administrator's designee) of any change in the loan servicer (notice of servicer transfer) within 60 days after the effective date of such change.

Estimated Frequency of Response: On occasion.

Estimated Number of Respondents: 978.

Estimated Total Annual Burden: 141,239 hours.

Comments: On May 22, 2025, the OCC published a 60-day notice for this information collection, (90 FR 21985). No comments were received.

Comments continue to be invited on:

(a) Whether the collection of information is necessary for the proper performance of the functions of the OCC, including whether the information has practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Patrick T. Tierney,
Assistant Director, Office of the Comptroller of the Currency.

[FR Doc. 2025-14253 Filed 7-28-25; 8:45 am]

BILLING CODE 4810-33-P